DEPARTMENT OF JUSTICE

Antitrust Division

Notice Pursuant to the National Cooperative Research and Production Act of 1993—ReJen Lowi Joint Venture

Notice is hereby given that, on May 18, 2004, pursuant to section 6(a) of the National Cooperative Research and Production Act of 1993, 15 U.S.C. 4301 et seq. (“the Act”), the ReJen Lowi Joint Venture has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are The ReJen Company, Washoe Valley, NV and Alvin Lowi & Associates, Rancho Palos Verdes, CA. The nature and objectives of the venture are to build and test a high efficiency regenerated cycle reciprocating diesel engine that will result in increased energy efficiency and lower emissions. The activities of this project will be partially funded by an award from the Advanced Technology Program, National Institute of Standards and Technology, U.S. Department of Commerce.

Dorothy B. Fountain,
Deputy Director of Operations, Antitrust Division.

[FR Doc. 04-13342 Filed 6-14-04; 8:45 am]

BILLING CODE 4410-11-M